DEPARTMENT OF EDUCATION

National Assessment Governing Board

Committee and Quarterly Board Meetings; Correction

AGENCY: National Assessment Governing Board, Department of Education.

ACTION: Notice; correction.

SUMMARY: The National Assessment Governing Board (hereafter referred to as the Board or Governing Board) published a document in the Federal Register on Wednesday, April 30, 2025, announcing the schedule and proposed agenda of the Thursday, May 15, 2025 and Friday, May 16, 2025, quarterly meeting of the Governing Board. The meeting agenda has been revised to reflect the below changes to the Friday, May 16, 2025, session of the Governing Board meeting.

FOR FURTHER INFORMATION CONTACT: Angela Scott (202) 357-7502.

SUPPLEMENTARY INFORMATION:

Correction

Notice of the hybrid meeting was published in the Federal Register on Wednesday, April 30, 2025, in FR Doc. 2025-07481 at 90 FR 17913-17915. The meeting notice is being amended to update the supplementary information to revise to reflect the new time for these meetings. On page 17914 in the 3rd column make the following correction to the times of the Open and Closed sessions. The Committee on Standards, Design and Methodology Closed Session originally scheduled for Friday, May 16, 2025, 9:05 a.m. to 10:15 a.m. will now be held from 9:05 a.m. to 10:00 a.m., and the Open Session originally scheduled for Friday, May 16, 2025, 10:15 a.m. to 11:00 a.m. will now be held from 10:00 a.m. to 11:00 a.m. The meeting will end at the 11:00 a.m. as originally announced.

Lesley Muldoon,
Executive Director, National Assessment Governing Board (NAGB), U.S. Department of Education.

[FR Doc. 2025-08465 Filed 5-13-25; 8:45 am]

BILLING CODE 4000-01-P